DEPARTMENT OF ENERGY

Federal Energy Regulatory Commission

[Docket No. EC05-50-000, et al.]

Granite Ridge Energy, LLC, et al.; Electric Rate and Corporate Filings

February 16, 2005.

The following filings have been made with the Commission. The filings are listed in ascending order within each docket classification.

1. Granite Ridge Energy, LLC and Cargill Financial Services International, Inc.

[Docket No. EC05-50-000]

Take notice that on February 14, 2005, Granite Ridge Energy, LLC (Granite Ridge), and Cargill Financial Services International, Inc. (Cargill Financial), filed an application pursuant to section 203 of the Federal Power Act requesting the Federal Energy Regulatory Commission to authorize the transfer of additional indirect equity interests in Granite Ridge to Cargill Financial, which owns approximately 13 percent indirect interest in Granite Ridge.

Comment Date: March 7, 2005.

2. Kumeyaay Wind LLC

[Docket No. EG05-46-000]

Take notice that on February 14, 2005, Kumeyaay Wind LLC (Kumeyaay Wind), filed with the Commission an application for determination of exempt wholesale generator status pursuant to Part 365 of the Commission's regulations. Kumeyaay Wind states that it will construct, own and operate a wind-powered generating facility located in the County of San Diego, California.

Kumeyaay Wind further states that a copy of the application has been served on the U.S. Securities and Exchange Commission and the California Public Utilities Commission.

Comment Date: 5 p.m. Eastern Time on March 7, 2005.

3. City of Riverside, California

[Docket No. EL05-45-001]

Take notice that on February 11, 2005, the City of Riverside, California (Riverside) submitted for filing corrections to its transmission revenue balancing account adjustment and to Appendix I of its transmission owner tariff filed in Docket No. EL05-45-000 on December 16, 2004. Riverside requests a January 1, 2005 effective date for its filing as corrected.

Comment Date: 5 p.m. Eastern Time on March 4, 2005.

4. Duke Energy Corporation

[Docket No. ER05-433-001]

Take notice that on February 11, 2005 Duke Energy Corporation, on behalf of Duke Electric Transmission, (collectively, Duke) submitted an errata to the network integration service agreement with North Carolina Municipal Power Agency Number 1 (NCMPA) which is designated as Third Revised Service Agreement No. 212 under Duke Electric Transmission FERC Electric Tariff Third Revised Volume No. 4.

Duke states that copies of the filing were served upon the service list.

Comment Date: 5 p.m. Eastern Time on February 22, 2005.

5. South Carolina Electric and Gas Company

[Docket No. ER96-1085-007]

Take notice that on February 7, 2005, South Carolina Electric Gas Company submitted for filing an updated market power analysis.

Comment Date: 5 p.m. Eastern Time on February 28, 2005.

6. Dynegy Power Marketing, Inc. [Docket No. ER99-4160-007]; Bluegrass Generation Company, L.L.C.

[Docket No. ER02-506-004]; Cabrillo Power I LLC [Docket No. ER99-1115-006]; Cabrillo Power II, LLC [Docket No. ER99-1116-006]; Calcasieu Power, LLC [Docket No. ER00-1049-004]; Dynegy Danskammer, LLC [Docket No. ER01-140-003]; Dynegy Midwest Generation, Inc. [Docket No. ER00-1895-004]; Dynegy Roseton, LLC [Docket No. ER01-141-003]; El Segundo Power, LLC [Docket No. ER98-1127-006]; Heard County Power, LLC [Docket No. ER01-943-003]; Long Beach Generation, LLC [Docket No. ER98-1796-005]; Renaissance Power, LLC [Docket No. ER01-3109-004]; Riverside Generating Company, LLC [Docket No. ER01-1044-004]; Rockingham Power, LLC [Docket No. ER99-1567-003]; Rocky Road Power, LLC [Docket No. ER99-2157-003]; and Rolling Hills Generating, LLC [Docket No. ER02-553-003]

Take notice that, on February 7, 2005, the subsidiaries of Dynegy Inc. with market-based rate authority (collectively, Dynegy), submitted an updated triennial market power analysis in compliance with the orders authorizing Dynegy to sell energy, capacity and ancillary services at market-based rates. Dynegy states that the updated market power analysis was prepared in accordance with the Commission's new market power screens, adopted in AEP Power Marketing, Inc., et al., 107 FERC ¶ 61,018 (2004). Dynegy notes that the filing also includes tariff amendments in compliance with the Commission's Order Amending Market-Based Rate Tariffs and Authorizations issued on November 17, 2003 in AEP Power Marketing, Inc., 107 FERC ¶ 61,018 (2003).

Dynegy states that copies of the filing were served on parties on the official service lists in each of the above-captioned proceedings.

Comment Date: 5 p.m. Eastern Time on February 28, 2005.

7. Wabash Valley Power Association, Inc.

[Docket No. ER05-438-001]

Take notice that on February 10, 2005, Wabash Valley Power Association, Inc. (Wabash Valley) submitted for filing additional information relating to two separate supplemental agreements to wholesale power supply contracts between Wabash Valley and two of its members, Midwest Energy Cooperative, Inc. and Paulding-Putnam Electric Cooperative, Inc. The two separate supplemental agreements were filed by Wabash Valley on January 12, 2005.

Wabash Valley states that copies of the filing were served upon each of Wabash Valley's members and the public utility commissions in Illinois, Indiana, Michigan and Ohio.

Comment Date: 5 p.m. Eastern Time on March 3, 2005.

8. Westar Energy, Inc.

[Docket No. ER05-563-000]

Take notice that on February 10, 2005, Westar Energy, Inc. (Westar) submitted for filing a notice of cancellation for rate schedule FERC No. 225, an electric power supply agreement between Westar and the City of Altamont, Kansas.

Westar states that copies of the filing were served upon the Kansas Corporation Commission and the City of Altamont, Kansas.

Comment Date: 5 p.m. Eastern Time on March 3, 2005.

9. Ramco Generating One, Inc.

[Docket No. ER05-564-000]

Take notice that on February 10, 2005, Ramco Generating One, Inc. (Ramco) submitted for filing, pursuant to section 205 of the Federal Power Act (FPA), and Part 35 of the Commission's regulations, an application for authorization to make sales of electric capacity, energy, replacement reserve and certain ancillary services at market-based rates; for authorization to reassign transmission capacity and resell firm transmission rights; for waiver of certain of the Commission's regulations promulgated under the FPA; and for certain blanket approvals under other such regulations. Ramco states that it included in its filing FERC Electric Tariff, Original Volume No. 1, market behavior rules, and a form of service agreement.

Ramco states that copies of the filing were served upon Ramco Generating One, Inc.'s jurisdictional customers and the California Public Utilities Commission.

Comment Date: 5 p.m. Eastern Time on March 3, 2005.

10. American Transmission Systems, Incorporated

[Docket No. ER05-566-000]

Take notice that on February 10, 2005, American Transmission Systems Incorporated (ATS), submitted for filing service agreement No. 350 under its open access transmission tariff. Specifically, the filing is a construction agreement with the Omega JV4, American Municipal Power—Ohio, Inc., Holiday City and the Village of Pioneer dated January 31, 2005. ATS states that the purpose of the construction agreement is to establish the terms and conditions for a temporary 69 KV delivery point for Holiday City and the Village of Pioneer distribution systems. ATS requests an effective date of February 1, 2005.

ATS states that copies of this filing were served on the representatives of the Parties and the Public Utilities Commission of Ohio.

Comment Date: 5 p.m. Eastern Time on March 3, 2005.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Linda Mitry,
Deputy Secretary.

[FR Doc. E5-744 Filed 2-23-05; 8:45 am]

BILLING CODE 6717-01-P